Executive Order 13695 of May 26, 2015

Termination of Emergency With Respect to the Risk of Nuclear Proliferation Created by the Accumulation of a Large Volume of Weapons-Usable Fissile Material in the Territory of the Russian Federation

By the authority vested in me as President by the Constitution and the laws of the United States of America, including the International Emergency Economic Powers Act (50 U.S.C. 1701 et seq.) and the National Emergencies Act (50 U.S.C. 1601 et seq.) (NEA),

I, BARACK OBAMA, President of the United States of America, find that the situation that gave rise to the declaration of a national emergency in Executive Order 13617 of June 25, 2012, with respect to the risk of nuclear proliferation created by the accumulation of a large volume of weapons-usable fissile material resulting from the reduction of nuclear weapons in accordance with agreements in the area of arms control and disarmament and located in the territory of the Russian Federation, has been significantly altered by the successful implementation of the Agreement Between the Government of the United States of America and the Government of the Russian Federation Concerning the Disposition of Highly Enriched Uranium Extracted from Nuclear Weapons, dated February 18, 1993, and related contracts and agreements. Accordingly, I hereby terminate the national emergency declared in Executive Order 13617, revoke that order, and further order:

Section 1. Pursuant to section 202(a) of the NEA (50 U.S.C. 1622(a)), termination of the national emergency declared in Executive Order 13617 shall not affect any action taken or proceeding pending not finally concluded or determined as of the date of this order, any action or proceeding based on any act committed prior to such date, or any rights or duties that matured or penalties that were incurred prior to such date.

Sec. 2. This order is not intended to, and does not, create any right or benefit, substantive or procedural, enforceable at law or in equity by any party against the United States, its departments, agencies, or entities, its officers, employees, or agents, or any other person.

THE WHITE HOUSE,

May 26, 2015.

[FR Doc. 2015-13055

Filed 5-27-15; 8:45 am]

Billing code 3295-F5